ENVIRONMENTAL PROTECTION AGENCY

40 CFR Part 60

Standards of Performance for New Stationary Sources

CFR Correction

In Title 40 of the Code of Federal Regulations, Part 60 (§ 60.1 to end of part 60 sections), revised as of July 1, 2008, on page 637, in § 60.664, the equation in paragraph (f)(1) introductory text is corrected to read as follows:

§ 60.664 Test methods and procedures.

* * * * *

(f) * * *

(1) * * *

* * * * *

[FR Doc. E9-14992 Filed 6-23-09; 8:45 am]

BILLING CODE 1505-01-D